DEPARTMENT OF TRANSPORTATION

Federal Aviation Administration

Thirteenth RTCA SC-231 TAWS Plenary

AGENCY: Federal Aviation Administration (FAA), U.S. Department of Transportation (DOT).

ACTION: Thirteenth RTCA SC-231 TAWS Plenary.

SUMMARY: The FAA is issuing this notice to advise the public of a meeting of Thirteenth RTCA SC-231 TAWS Plenary.

DATES: The meeting will be held December 08, 2016 10:00 a.m.-11:00 a.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Thirteenth RTCA SC-231 TAWS Plenary. The agenda will include the following:

Thursday, December 08, 2016, 10:00 a.m.-11:00 a.m.

1. Introductory Remarks: DFO, RTCA and Chairman

2. Review of final document for submission to Program Management Committee

3. Other Business

4. Review of meeting minutes

5. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on November 15, 2016.
Mohannad Dawoud
Management & Program Analyst, Partnership Contracts Branch, ANG-A17 NextGen, Procurement Services Division, Federal Aviation Administration.

[FR Doc. 2016-27794 Filed 11-17-16; 8:45 am]

BILLING CODE 4910-13-P